DEPARTMENT OF ENERGY

Federal Energy Regulatory Commission

[Docket No. CP13-476-000]

Natural Gas Pipeline Company of America LLC; Notice of Request Under Blanket Authorization

Take notice that on May 10, 2013, Natural Gas Pipeline Company of America LLC (Natural), pursuant to the blanket certificate authorization granted in Docket No. CP82-402-000,¹ filed an application in accordance to sections 157.205, 157.208, and 157(213) of the Commission's Regulations under the Natural Gas Act (NGA) as amended, requesting authority to convert one (1.0) Bcf of cushion gas to working gas at its Herscher Mount Simon Reservoir located in Kankakee County, Illinois. The proposed project will provide greater operational flexibility with the ability to withdraw additional working gas from the Mount Simon Reservoir instead of the Galesville Reservoir, which could be used to partially recharge or refill the Galesville Reservoir during low demand period, all as more fully set forth in the application which is on file with the Commission and open to public inspection.

¹ 20 FERC ¶ 62,415 (1982).

The proposed conversion will result in an increase in working gas inventory from 12.6 Bcf to 13.6 Bcf and a decrease in the cushion gas inventory from 54.4 Bcf to 53.4 Bcf. Natural states that the conversion will not change the total volume of 67 Bcf stored at the Mount Simon Reservoir. The conversion of one (1.0) Bcf of cushion gas to working gas will be achieved by stimulation of existing I/W wells to improve their withdrawal capacity. The stimulation will be conducted during daytime hours using truck mounted equipment. The trucks will use existing roads to access the well sites. No new ground disturbance is required to complete the proposed well stimulation activities.

Any questions concerning this application may be directed to Bruce H. Newsome, Vice President, Natural Gas Pipeline Company of America LLC, 3250 Lacey Road, Suite 700, Downers Grove, Illinois 60515, (630) 725-3070, or email at bruce newsome@kindermorgan.com. This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Pursuant to section 157.9 of the Commission's rules, 18 CFR 157.9, within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: May 17, 2013.
Kimberly D. Bose,
Secretary.

[FR Doc. 2013-12296 Filed 5-22-13; 8:45 am]

BILLING CODE 6717-01-P